ENVIRONMENTAL PROTECTION AGENCY

40 CFR Part 300

[FRL-7207-7]

National Priorities List for Uncontrolled Hazardous Waste Sites

AGENCY: Environmental Protection Agency.

ACTION: Notice of Clarification of United States Avenue Burn site.

On July 22, 1999, the Environmental Protection Agency (“EPA”) promulgated a final rule adding the United States Avenue Burn site, located in Gibbsboro, NJ, on the National Priorities List (“NPL”) (64 FR 39878). On September 21, 1999, the Sherwin-Williams Company filed a petition for review of that rule in the United States Court of Appeals for the District of Columbia Circuit (“D.C. Circuit”). Sherwin-Williams Company v. United States Environmental Protection Agency, Case No. 99-1388 (D.C. Cir. 1999). EPA and Sherwin-Williams thereafter entered into negotiations to settle this litigation, and on July 10, 2002 the parties entered into a formal settlement agreement.

In response to this settlement agreement, the DC Circuit Court issued an order remanding the United States Avenue Burn listing decision to EPA on August 2, 2002. In accordance with the Court's remand order and the settlement agreement, EPA is providing notice clarifying that the United States Avenue Burn site, as listed on the NPL (40 CFR part 300, Appendix B), does not include the Railroad Track Area. However, the United States Avenue Burn site remains on the NPL.

FOR FURTHER INFORMATION CONTACT: Jennifer Griesert, phone (703) 603-8888, State, Tribal and Site Identification Center; Office of Emergency and Remedial Response (mail code 5204G); U.S. Environmental Protection Agency; 1200 Pennsylvania Avenue NW., Washington, DC 20460.

Dated: August 23, 2002.
Marianne Lamont Horinko,
Assistant Administrator, Office of Solid Waste and Emergency Response.

[FR Doc. 02-22229 Filed 8-29-02; 8:45 am]

BILLING CODE 6560-50-P